DEPARTMENT OF THE TREASURY

Office of the Comptroller of the Currency

[OCC Charter Number 703360]

Sidney Federal Savings and Loan Association, Sidney, Nebraska; Approval of Conversion Application

Notice is hereby given that on May 15, 2018, the Office of the Comptroller of the Currency (OCC) approved the application of Sidney Federal Savings and Loan Association, Sidney, Nebraska, to convert to the stock form of organization. Copies of the application are available on the OCC website at the FOIA Reading Room (https://foia-pal.occ.gov/palMain.aspx) under Mutual to Stock Conversion Applications. If you have any questions, please contact Licensing Activities at (202) 649-6260.

By the Office of the Comptroller of the Currency.
Dated: May 15, 2018.
Donald W. Dwyer,
Thrift Licensing Lead Expert.

[FR Doc. 2018-10903 Filed 5-21-18; 8:45 am]

BILLING CODE 4810-33-P